DEPARTMENT OF THE INTERIOR

Bureau of Indian Affairs

[167 A2100DD/AAKC001030/A0A501010.999900]

Johnson-O'Malley Program

AGENCY: Bureau of Indian Affairs, Interior.

ACTION: Tribal consultation meetings.

SUMMARY: The Bureau of Indian Education (BIE) will be conducting three consultation sessions to obtain oral and written comments on issues concerning the Johnson O'Malley (JOM) program. The sessions continue the previous dialogues conducted by the Bureau of Indian Affairs (BIA) and BIE in 2012 and 2015.

DATES: See the SUPPLEMENTARY INFORMATION section of this document for the dates of Tribal consultation sessions. We will consider all comments received by January 15, 2016, 4:30 p.m. EST.

ADDRESSES: See the SUPPLEMENTARY INFORMATION section of this document for the location of these Tribal consultation sessions. Submit comments by mail or hand-deliver written comments to Ms. Jennifer L. Davis, Program Analyst-JOM, Bureau of Indian Education, 1951 Constitution Avenue NW., Mail Stop Room 312A-SIB Washington, DC 20245; facsimile to (202) 273-0030; or email to JOMComments@bia.gov.

FOR FURTHER INFORMATION CONTACT: Ms. Jennifer L. Davis, Program Analyst-JOM, telephone (202) 208-4397.

SUPPLEMENTARY INFORMATION: As required by 25 U.S.C. 2011(b), the purpose of this consultation is to provide Indian Tribes, school boards, parents, Indian organizations and other interested parties with an opportunity to comment on issues raised during previous consultation sessions and future plans for the JOM program. The topics for the JOM Tribal Consultation are use of the 2014 JOM student count and the JOM funding methodology for 2015, 2016, and thereafter. The issues will be described in more detail in a Tribal consultation booklet issued by the BIE before the consultation sessions.

Tribal consultation sessions will be held on the following dates at the following location:

Date | Time | Location
Tuesday, December 15, 2015 | 1 p.m.-4 p.m. (Eastern Standard Time) | Webinar/Teleconference. 1951 Constitution Ave. NW., South Interior Building, Room 304, Washington, DC 20240. Telephone Call-in #: 877-601-5705. Passcode: 2686962. Webinar Conference Access: URL: https://www.mymeetings.com/nc/join/. Conference number: PW5872129. Audience passcode: 2686962. Participants can join the event directly at: https://www.mymeetings.com/nc/join.php?i=PW5872129&p=2686962&t=c. Local Contact: Jennifer Davis. Phone: (202) 208-4397
Wednesday, December 16, 2015 | 1 p.m.-4 p.m. (Eastern Standard Time) | Webinar/Teleconference. 1951 Constitution Ave. NW., South Interior Building, Room 304, Washington, DC 20240. Telephone Call-in #: 877-601-5705. Passcode: 2686962. Webinar Conference Access: URL: https://www.mymeetings.com/nc/join/. Conference number: PW5872131. Audience passcode: 2686962. Participants can join the event directly at:. https://www.mymeetings.com/nc/join.php?i=PW5872131&p=2686962&t=c. Local Contact: Jennifer Davis. Phone: (202) 208-4397
Thursday, December 17, 2015 | 1 p.m.-4 p.m. (Eastern Standard Time) | Webinar/Teleconference. 1951 Constitution Ave. NW., South Interior Building, Room 304, Washington, DC 20240. Telephone Call-in #: 877-601-5705. Passcode: 2686962. Webinar Conference Access: URL: https://www.mymeetings.com/nc/join/. Conference number: PW5975273. Audience passcode: 2686962. Participants can join the event directly at:. https://www.mymeetings.com/nc/join.php?i=PW5975273&p=2686962&t=c. Local Contact: Jennifer Davis. Phone: (202) 208-4397

A consultation booklet for the sessions will be distributed to all federally-recognized Indian Tribes, Bureau Regional and Agency Offices and Bureau-funded schools. The booklet will also be available at each session and on the BIE Web site at www.bie.edu.

Dated: November 10, 2015.
Kevin K. Washburn,
Assistant Secretary—Indian Affairs.

[FR Doc. 2015-29188 Filed 11-12-15; 11:15 am]

BILLING CODE 4337-15-P